DEPARTMENT OF THE INTERIOR

Fish and Wildlife Service

[FWS-R8-ES-2012-N007; FXES11130800000-123-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before March 2, 2012.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicant

Permit No. TE-163367

Applicant: Ryan O'Dell, Hollister, California.

The applicant requests an amendment to an existing permit to remove and reduce to possession from lands under Federal jurisdiction the Monolopia congdonii (San Joaquin woolly-thread) in conjunction with floristic surveys and research activities to determine competition from exotic plants and effects of grazing throughout the range of the species in California for the purpose of enhancing the species' survival.

Permit No. TE-58862A

Applicant: Greg Mason, San Diego, California.

The applicant requests a permit to take (survey by pursuit) the Quino checkerspot butterfly (Euphydryas editha quino) and take (capture, collect, and kill) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-59772A

Applicant: Clinton R. Elsholz, Lathrop, California.

The applicant requests a permit to take (survey, capture, handle, and release) the California tiger salamander (Ambystoma californiense) in conjunction with survey and annual monitoring activities on State Park lands throughout the range of the species in California for the purpose of enhancing the species' survival.

Permit No. TE-161483

Applicant: Linette A. Lina, Orange, California.

The applicant requests an amendment to a permit to take (harass by survey) the southwestern willow flycatcher (Empidonax traillii extimus) in conjunction with surveys throughout the range of the species in California for the purpose of enhancing the species' survival.

Permit No. TE-58760A

Applicant: Jason D. Yakich, Forest Knolls, California.

The applicant requests a permit to take (survey, locate, and monitor nests) the California least tern (Sterna antillarum browni) and take (capture, collect, and kill) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey and population monitoring activities throughout the range of each species in California for the purpose of enhancing the species' survival.

Permit No. TE-179013

Applicant: Scott M. Werner, Ojai, California.

The applicant requests an amendment to a permit to take (harass by survey) the southwestern willow flycatcher (Empidonax traillii extimus) and take (locate and monitor nests) the least Bell's vireo (Vireo bellii pusillus) in conjunction with surveys and population monitoring throughout the range of each species in California for the purpose of enhancing the species' survival.

Permit No. TE-59775A

Applicant: Norman R. Sisk, Friant, California.

The applicant requests a permit to take (survey, capture, handle, and release) the California tiger salamander (Ambystoma californiense) and arroyo toad (Anaxyrus californicus) in conjunction with survey and annual monitoring activities throughout the range of each species in California for the purpose of enhancing the species' survival.

Permit No. TE-48169A

Applicant: Katie A. Hall, Oceanside, California.

The applicant requests a permit to take (capture, collect, and kill) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species within the jurisdiction of the U.S. Fish and Wildlife Service's Carlsbad Field Office in California for the purpose of enhancing the species' survival.

Permit No. TE-61778A

Applicant: Karen Miller LaCoste, Ramona, California.

The applicant requests a permit to take (capture, collect, and kill) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-60147A

Applicant: Heather L. Moine, Goleta, California.

The applicant requests a permit to take (capture, collect, and kill) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-60149A

Applicant: California Department of Fish and Game, Arcata, California.

The applicant requests a permit to take (survey, capture, handle, and release) the tidewater goby (Eucyclogobius newberryi) in conjunction with salmonid and longfin smelt monitoring studies and tidewater goby presence, distribution, and rescue activities throughout the range of the species in Del Norte, Humboldt, and Mendocino Counties, California, for the purpose of enhancing the species' survival.

Permit No. TE-60117A

Applicant: Maia L. Lipschutz, San Diego, California.

The applicant requests a permit to take (harass by survey) the southwestern willow flycatcher (Empidonax traillii extimus) in conjunction with surveys throughout the range of the species in California, Nevada, Arizona, New Mexico, Texas, Colorado, and Utah for the purpose of enhancing the species' survival.

Permit No. TE-027296

Applicant: Michael H. Fawcett, Bodega, California.

The applicant requests a permit to take (survey, capture, handle, release, and collect voucher specimens) the tidewater goby (Eucyclogobius newberryi) in conjunction with surveys and population monitoring activities throughout the range of the species in Mendocino, Alameda, Marin, Sonoma, San Francisco, San Mateo, Santa Cruz, and Monterey Counties, California, and take (survey, capture, handle, and release) the California freshwater shrimp (Syncaris pacifica) in conjunction with surveys throughout the range of the species in California for the purpose of enhancing the species' survival.

Permit No. TE-61783A

Applicant: Sonya E. Steckler, Carlsbad, California.

The applicant requests a permit to take (harass by survey using taped vocalizations; and locate and monitor nests) the least Bell's vireo (Vireo bellii pusillus) in conjunction with surveys and population monitoring throughout the range of each species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Acting Regional Director, Region 8, Sacramento, California.

[FR Doc. 2012-2149 Filed 1-31-12; 8:45 am]

BILLING CODE 4310-55-P